EXPORT-IMPORT BANK

Sunshine Act Meeting

Action: Notice of a Partially Open Meeting of the Board of Directors of the Export-Import Bank of the United States.

Time and Place: Thursday, January 4, 2007 at 9:30 AM. The meeting will be held at Ex-Im Bank in Room 1143, 811 Vermont Avenue, NW., Washington, DC 20571.

Open Agenda Item: Ex-Im Bank Sub-Saharan Africa Advisory Committee for 2007.

Public Participation: The meeting will be open to public participation for Item No. 1 only.

FOR FURTHER INFORMATION CONTACT: Office of the Secretary, 811 Vermont Avenue, NW., Washington, DC 20571 (Telephone 202-565-3957).

Howard A. Schweitzer,
General Counsel.

[FR Doc. 06-9937 Filed 12-26-06; 2:37 pm]

BILLING CODE 6690-01-M